DEPARTMENT OF COMMERCE

Bureau of Industry and Security

15 CFR Parts 732, 734, 738, 742, 744, 758, and 774

[Docket No. 180212164-9483-01]

RIN 0694-AH53

Expansion of Export, Reexport, and Transfer (in-Country) Controls for Military End Use or Military End Users in the People's Republic of China, Russia, or Venezuela

AGENCY: Bureau of Industry and Security, Commerce.

ACTION: Final rule.

SUMMARY: The Bureau of Industry and Security (BIS) is amending the Export Administration Regulations (EAR) to expand license requirements on exports, reexports, and transfers (in-country) of items intended for military end use or military end users in the People's Republic of China (China), Russia, or Venezuela. Specifically, this rule expands the licensing requirements for China to include “military end users,” in addition to “military end use.” It broadens the list of items for which the licensing requirements and review policy apply and expands the definition of “military end use.” Next, it creates a new reason for control and the associated review policy for regional stability for certain items exported to China, Russia, or Venezuela, moving existing text related to this policy. Finally, it adds Electronic Export Information filing requirements in the Automated Export System for exports to China, Russia, and Venezuela. This rule supports the objectives discussed in the National Security Strategy of the United States.

DATES: This rule is effective June 29, 2020.

FOR FURTHER INFORMATION CONTACT: Eileen Albanese, Director, Office of National Security and Technology Transfer Controls, Bureau of Industry and Security, Department of Commerce. Phone: (202) 482-0092; Fax: (202) 482-3355; Email: rpd2@bis.doc.gov. For emails, include “Military End Use or User” in the subject line.

SUPPLEMENTARY INFORMATION:

Background

In December 2017, the White House issued the National Security Strategy of the United States of America (NSS), which states that “The United States will respond to the growing political, economic, and military competitions we face around the world.” The NSS, which can be found at www.whitehouse.gov, discusses four pillars—protect the homeland, promote American prosperity, preserve peace through strength, and advance American influence. The strategy notes that “China and Russia challenge American power, influence, and interests, attempting to erode American security and prosperity. They are determined to make economies less free and less fair, to grow their militaries, and to control information and data to repress their societies and expand their influence.” The NSS further notes, “Both China and Russia support the dictatorship in Venezuela and are seeking to expand military linkages and arms sales across the region.”

BIS is publishing this rule to support the national security and foreign policy objectives of the United States by broadening the United States government's visibility into and ability to deny or condition exports, reexports, and transfers (in-country) involving certain items on the Commerce Control List (CCL) (Supplement No. 1 to part 774 of the Export Administration Regulations) that are destined to military end users or end uses in China, Russia, or Venezuela.

Expansion of Military End Use and End User Controls

End use (how will the product ultimately be used) and the end user (who will ultimately use the product) are important factors when determining license requirements. Examples of prohibited end use include restrictions on certain nuclear end uses, use of products in weapons of mass destruction, and use of microprocessors for military end use. For a full list of end-use and end-user prohibitions under the EAR, see Part 744 of the EAR. The EAR's current definition of military end users includes the army, navy, air force, marines and coast guard, plus the national guard/police, government intelligence and reconnaissance organizations; this rule does not modify that definition. The EAR's current definition of military end use refers both to direct use (for parts, components or subsystems of weapons and other defense articles) and indirect use (weapon design and development, testing, repair and maintenance). This rule broadens the definition of military end use beyond any item for the “use,” “development,” or “production” to include any item that supports or contributes to the operation, installation, maintenance, repair, overhaul, refurbishing, “development,” or “production,” of military items.

On June 19, 2007, BIS published a rule imposing a license requirement on exports, reexports, and transfers (in-country) of certain items intended for military end use in China (72 FR 33646), in large part due to a continued lack of transparency regarding products and technologies intended for military end use as China strengthened its military activities and capabilities. On September 17, 2014, BIS expanded these license requirements to include military end uses and end users in Russia (79 FR 55608), to address that country's continuing policy of destabilization in Ukraine and occupation of Crimea. On November 7, 2014, BIS expanded these license requirements to include military end uses and end users in Venezuela (79 FR 66288) as the actions and policies of the Venezuelan military, including its continued and increased repression and complicity in human rights violations, undermined democratic processes and institutions and thereby constituted an unusual and extraordinary threat to the national security and foreign policy of the United States.

This rule further expands license requirements for exports, reexports, and transfers (in-country) of items intended for military end use or military end users in the People's Republic of China (China), Russia, or Venezuela by broadening the license requirement in § 744.21 of the Export Administration Regulations (15 CFR parts 730-774) (EAR) to include military end users in China. This expansion will require increased diligence with respect to the evaluation of end users in China, particularly in view of China's widespread civil-military integration.

In addition, this rule broadens the scope of the items subject to license requirements in § 744.21 by adding items to the list of items subject to the military end-use and end-user license requirements in Supplement No. 2 to part 744. Specifically, this rule adds the following Export Control Classification Numbers (ECCNs) in the categories of materials processing, electronics, telecommunications, information security, sensors and lasers, and propulsion to the supplement: 2A290, 2A291, 2B999, 2D290, 3A991, 3A992, 3A999, 3B991, 3B992, 3C992, 3D991, 5B991, 5A992, 5D992, 6A991, 6A996, and 9B990. Additionally, this rule expands the range of items under ECCNs 3A992, 8A992, and 9A991 included in Supplement No. 2 to part 744.

This rule adopts a license review policy of presumption of denial in § 744.21(e). This change makes the review policy consistent with the review policy for certain exports, reexports, and transfers (in-country) of microprocessors and associated software and technologies for military end uses and end users in § 744.17(c). Further, this rule broadens the definition of “military end use” by identifying each element of the definition of “use” so that any one of the six elements, standing alone, is sufficient. As amended, the definition of “military end use” in § 744.21(f) will include any item that supports or contributes to the operation, installation, maintenance, repair, overhaul, refurbishing, “development,” or “production,” of military items described on the United States Munitions List (International Traffic in Arms Regulations (22 CFR 126.1)), or items classified under ECCNs ending in “A018” or under “600 series” ECCNs.

Clarification of Controls on “600 series” .y and 9x515.y Items

Additionally, to help the public comply with EAR § 744.21, this rule would relocate the existing license requirement for items described in a .y paragraph of a 9x515 or “600 series” ECCN to China, Russia, or Venezuela from § 744.21 to the License Requirements sections of the relevant ECCNs on the CCL.

The license requirement in § 744.21 for “600 series” .y items was imposed in an April 16, 2013 rule that initially implemented “600 series” controls (Revisions to the Export Administration Regulations: Initial Implementation of Export Control Reform, 78 FR 22660, at 22723) because such items were presumptively for military end use. The license requirement in § 744.21 for 9x515.y items was imposed in a May 13, 2014 rule that implemented CCL controls on certain spacecraft (Revisions to the Export Administration Regulations: Control of Spacecraft Systems and Related Items the President Determines No Longer Warrant Control Under the United States Munitions List (USML), 79 FR 27418, at 27436), prohibiting the export of all items described in 9A515.y to China. As noted previously, subsequent rules broadened the application of § 744.21 to Russia and Venezuela. This relocation of the existing license requirement from EAR § 744.21 to the CCL would not change its scope, which was intended to result in a license requirement for all 9x515.y or “600 series” .y items to those destinations. Although the rules imposing controls on “600 series” .y and 9x515.y items did not assign a “reason for control” as that term is used on the CCL, BIS believes such items should require a license in order to support U.S. foreign policy to maintain regional stability. Accordingly, the reason for control is regional stability (RS) as described in new EAR § 742.6(a)(7). The associated review policy is described in new § 742.6(b)(8). The license review policy reflects current regional stability policy for “600” series and 9x515 items. The addition of new § 742.6(a)(7) would require redesignation of the following paragraphs in the section (as well as conforming changes): §§ 732.3(b)(4), 734.3(c), 738.1(a)(3), and ECCNs 0A521, 0B521, 0C521, 0D521, 0E521, 9A515, and 9E515.

Expansion of Electronic Export Information Filing Requirements

Finally, this rule expands Electronic Export Information (EEI) filing requirements in the Automated Export System (AES) for exports to China, Russia, or Venezuela. Existing provisions exempt exporters from both filing EEI for many shipments valued under $2,500 (unless an export license is required) and from entering the ECCN in the EEI when the reason for control is only anti-terrorism (AT). To promote transparency with respect to shipments to these destinations, this rule revises § 758.1 of the EAR to require filing for items destined to China, Russia, or Venezuela regardless of the value of the shipment, unless the shipment is eligible for License Exception GOV. In addition, even if no license is required to ship an item to those destinations, the EEI filing must include the correct ECCN regardless of reason for control. Certain exemptions from filing found in both the EAR and Foreign Trade Regulations (see § 758.1(c) of the EAR), such as for personally-owned baggage, are retained in this rule.

Export Control Reform Act of 2018

On August 13, 2018, the President signed into law the John S. McCain National Defense Authorization Act for Fiscal Year 2019, which included the Export Control Reform Act of 2018 (ECRA) (50 U.S.C. 4801-4852) that provides the legal basis for BIS's principal authorities and serves as the authority under which BIS issues this rule. As set forth in Section 1768 of ECRA, all delegations, rules, regulations, orders, determinations, licenses, or other forms of administrative action that have been made, issued, conducted, or allowed to become effective under the Export Administration Act of 1979 (50 U.S.C. 4601 et seq.) (as in effect prior to August 13, 2018 and as continued in effect pursuant to the International Emergency Economic Powers Act (50 U.S.C. 1701 et seq.) and Executive Order 13222 of August 17, 2001, 3 CFR, 2001 Comp., p. 783 (2002), as amended by Executive Order 13637 of March 8, 2013, 78 FR 16129 (March 13, 2013), and as extended by the Notice of August 14, 2019, 84 FR 41881 (August 15, 2019)), or the Export Administration Regulations, and are in effect as of August 13, 2018, shall continue in effect according to their terms until modified, superseded, set aside, or revoked under the authority of ECRA.

Rulemaking Requirements

1. Executive Orders 13563 and 12866 direct agencies to assess all costs and benefits of available regulatory alternatives and, if regulation is necessary, to select regulatory approaches that maximize net benefits (including potential economic, environmental, public health and safety effects, distribute impacts, and equity). Executive Order 13563 emphasizes the importance of quantifying both costs and benefits, of reducing costs, of harmonizing rules, and of promoting flexibility. This final rule has been designated a “significant regulatory action,” although not economically significant, under section 3(f) of Executive Order 12866.

2. This final rule is not subject to the requirements of Executive Order 13771 (82 FR 9339, February 3, 2017) because it is issued with respect to a national security function of the United States. As discussed in the background section, this rule supports the objectives laid out in the National Security Strategy of the United States of America (NSS) by broadening the United States government's visibility into transactions involving certain items on the CCL and exports, reexports and transfers (in-country) to military end users or end uses in China, Russia, or Venezuela. Specifically, the expansion of controls would enhance the national security of the United States by reducing the risk that exports, reexports, and transfers (in-country) of items subject to the EAR could contribute to the military capability of China, Russia, or Venezuela contrary to U.S. national security interests. It allows the United States government to review transactions involving military end uses or end users in those destinations prior to their completion to mitigate this risk. Therefore, the cost-benefit analysis required pursuant to Executive Orders 13563 and 12866 indicates this rule is intended to improve national security as its primary direct benefit. Accordingly, this rule meets the requirements set forth in the April 5, 2017, OMB guidance implementing Executive Order 13771 (82 FR 9339, February 3, 2017), regarding what constitutes a regulation issued “with respect to a national security function of the United States” and it is, therefore, exempt from the requirements of Executive Order 13771.

3. Notwithstanding any other provision of law, no person may be required to respond to or be subject to a penalty for failure to comply with a collection of information, subject to the requirements of the Paperwork Reduction Act of 1995 (44 U.S.C. 3501 et seq.) (PRA), unless that collection of information displays a currently valid Office of Management and Budget (OMB) Control Number. This regulation involves a collection currently approved by OMB under control number 0694-0088, Simplified Network Application Processing System. This collection includes, among other things, license applications, and carries a burden estimate of 42.5 minutes for a manual or electronic submission for a total burden estimate of 31,878 hours. BIS receives very few license applications for military end uses in China or for military end uses or end users in Russia or Venezuela (approximately two to three annually). BIS believes that the reason for this small number is the likelihood that that such applications will be denied. BIS anticipates that broadening the range of items and parties subject to these military end-use and end-user license requirements will increase the number of licenses submitted; however, BIS also believes that, due to continuing likelihood of denials, this increase is not expected to exceed the existing estimates currently associated with OMB control number 0694-0088.

Any comments regarding the collection of information associated with this rule, including suggestions for reducing the burden, may be sent to Jasmeet K. Seehra, Office of Management and Budget (OMB), by email to Jasmeet_K._Seehra@omb.eop.gov, or by fax to (202) 395-7285.

4. This rule does not contain policies with Federalism implications as that term is defined under Executive Order 13132.

5. Pursuant to § 1762 of ECRA, this action is exempt from the Administrative Procedure Act (5 U.S.C. 553) requirements for notice of proposed rulemaking, opportunity for public participation, and delay in effective date.

6. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

Saving Clause

Shipments of items removed from license exception eligibility or eligibility for export, reexport or transfer (in-country) without a license as a result of this regulatory action that were on dock for loading, on lighter, laden aboard an exporting carrier, or en route aboard a carrier to a port of export, on June 29, 2020, pursuant to actual orders for exports, reexports and transfers (in-country) to a foreign destination, may proceed to that destination under the previous license exception eligibility or without a license so long as they have been exported, reexported or transferred (in-country) before July 27, 2020. Any such items not actually exported, reexported or transferred (in-country) before midnight, on July 27, 2020 require a license in accordance with this final rule.

List of Subjects

15 CFR Parts 732 and 758

Administrative practice and procedure, Exports, Reporting and recordkeeping requirements.

15 CFR Part 734

Administrative practice and procedure, Exports, Inventions and patents, Research Science and technology.

15 CFR Part 738

Exports.

15 CFR Part 742

Exports, Terrorism.

15 CFR Part 744

Exports, Reporting and recordkeeping requirements, Terrorism.

15 CFR Part 774

Exports, Reporting and recordkeeping requirements.

For the reasons set forth in the preamble, 15 CFR chapter VII, subchapter C is amended as follows:

PART 732—STEPS FOR DETERMINING LICENSING REQUIREMENTS

1. The authority citation for part 732 continues to read as follows:

Authority: 50 U.S.C. 4801-4852; 50 U.S.C. 4601 et seq.; 50 U.S.C. 1701 et seq.; E.O. 13026, 61 FR 58767, 3 CFR, 1996 Comp., p. 228; E.O. 13222, 66 FR 44025, 3 CFR, 2001 Comp., p. 783).

§ 732.3 [Amended]

2. In § 732.3, in paragraph (b)(4), remove the reference to “§ 742.6(a)(7)” and add in its place “§ 742.6(a)(8)”.

PART 734—SCOPE OF THE EAR

3. The authority citation for part 734 continues to read as follows:

Authority: 50 U.S.C. 4801-4852; 50 U.S.C. 4601 et seq.; 50 U.S.C. 1701 et seq.; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; E.O. 13637, 78 FR 16129, 3 CFR, 2014 Comp., p. 223; Notice of November 12, 2019, 84 FR 61817 (November 13, 2019).

§ 734.3 [Amended]

4. In § 734.3, in paragraph (c), remove the reference to “§ 742.6(a)(7)” and add in its place “§ 742.6(a)(8)”.

PART 738—COMMERCE CONTROL LIST AND THE COUNTRY CHART

5. The authority citation for part 738 continues to read as follows:

Authority: 50 U.S.C. 4801-4852; 50 U.S.C. 4601 et seq.; 50 U.S.C. 1701 et seq.; 10 U.S.C. 8720; 10 U.S.C. 8730(e); 22 U.S.C. 287c; 22 U.S.C. 2151 note; 22 U.S.C. 3201 et seq.; 22 U.S.C. 6004; 42 U.S.C. 2139a; 15 U.S.C. 1824; 50 U.S.C. 4305; 22 U.S.C. 7201 et seq.; 22 U.S.C. 7210; E.O. 13026, 61 FR 58767, 3 CFR, 1996 Comp., p. 228; E.O. 13222, 66 FR 44025, 3 CFR, 2001 Comp., p. 783.

§ 738.1 [Amended]

6. In § 738.1, in paragraph (a)(3), remove the reference to “§ 742.6(a)(7)” and add in its place “§ 742.6(a)(8)”.

PART 742—CONTROL POLICY—CCL BASED CONTROLS

7. The authority citation for part 742 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; Sec. 1503, Pub. L. 108-11, 117 Stat. 559; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13222, 66 FR 44025, 3 CFR, 2001 Comp., p. 783; Presidential Determination 2003-23, 68 FR 26459, 3 CFR, 2004 Comp., p. 320; Notice of November 12, 2019, 84 FR 61817 (November 13, 2019).

8. In § 742.6:

a. Revise paragraph (a)(1);

b. Redesignate paragraphs (a)(7) and (8) as paragraphs (a)(8) and (9) and add new paragraph (a)(7);

c. Revise newly redesignated paragraph (a)(8)(i);

d. Revise paragraph(b)(1)(i); and

e. Add paragraph (b)(8).

The revisions and additions read as follows:

§ 742.6 Regional stability.

(a) * * *

(1) RS Column 1 license requirements in general. A license is required for exports and reexports to all destinations, except Canada, for all items in ECCNs on the CCL that include RS Column 1 in the Country Chart column of the “License Requirements” section. Transactions described in paragraph (a)(2), (3), or (9) of this section are subject to the RS Column 1 license requirements set forth in those paragraphs rather than the license requirements set forth in this paragraph (a)(1).

* * * * *

(7) RS requirement that applies to the People's Republic of China (China), Russia, or Venezuela. A license is required to export or reexport to China, Russia, or Venezuela any item described in a .y paragraph of a 9x515 or “600 series” ECCN, except for exports or reexports to Russia for use in, with, or for the International Space Station (ISS), including launch to the ISS. (See § 740.11(e)(1) of the EAR for a definition of the ISS.)

(8) * * *

(i) Scope. This paragraph (a)(8) supplements the information in the 0Y521 ECCNs and in Supplement No. 5 to part 774 (Items Classified Under ECCNs 0A521, 0B521, 0C521, 0D521 and 0E521). This paragraph alerts exporters, reexporters and transferors to the procedures that apply to items classified under the 0Y521 ECCNs.

* * * * *

(b) * * *

(1) * * *

(i) Applications for exports and reexports of ECCN 0A501, 0A504, 0A505, 0B501, 0B505, 0D501, 0D505, 0E501, 0E504, and 0E505 items; 9x515 and “600 series” items will be reviewed on a case-by-case basis to determine whether the transaction is contrary to the national security or foreign policy interests of the United States, including the foreign policy interest of promoting the observance of human rights throughout the world. Other applications for exports and reexports described in paragraph (a)(1), (2), (6), or (8) of this section will be reviewed on a case-by-case basis to determine whether the export or reexport could contribute directly or indirectly to any country's military capabilities in a manner that would alter or destabilize a region's military balance contrary to the foreign policy interests of the United States. Applications for reexports of items described in paragraph (a)(3) of this section will be reviewed applying the policies for similar commodities that are subject to the ITAR. Applications for export or reexport of items classified under any 9x515 or “600 series” ECCN requiring a license in accordance with paragraph (a)(1) or (9) of this section will also be reviewed consistent with United States arms embargo policies in § 126.1 of the ITAR (22 CFR 126.1) if destined to a country set forth in Country Group D:5 in Supplement No. 1 to part 740 of the EAR. Applications for export or reexport of “parts,” “components,” “accessories,” “attachments,” “software,” or “technology” “specially designed” or otherwise required for the F-14 aircraft will generally be denied. When destined to China or a country listed in Country Group E:1 in Supplement No. 1 to part 740 of the EAR, items classified under ECCN 0A501, 0A505, 0B501, 0B505, 0D501, 0D505, 0E501, 0E504, and 0E505 or any 9x515 ECCN will be subject to a policy of denial. In addition, applications for exports and reexports of ECCN 0A501, 0A505, 0B501, 0B505, 0D501, 0D505, 0E501, 0E504, and 0E505 items when there is reason to believe the transaction involves criminal organizations, rebel groups, street gangs, or other similar groups or individuals, that may be disruptive to regional stability, including within individual countries, will be subject to a policy of denial.

* * * * *

(8) China, Russia, or Venezuela. Applications to export or reexport items described in paragraph (a)(7) of this section to China, Russia, or Venezuela will be reviewed on a case-by-case basis to determine whether the transaction is contrary to the national security or foreign policy interests of the United States, including the foreign policy interest of promoting the observance of human rights throughout the world. Such applications will also be reviewed consistent with United States arms embargo policies in § 126.1 of the ITAR (22 CFR 126.1) if destined to a country set forth in Country Group D:5 in Supplement No. 1 to part 740 of the EAR. When destined to China, items classified under any 9x515.y ECCN will be subject to a policy of denial consistent with paragraph (b)(1) of this section.

* * * * *

PART 744—CONTROL POLICY: END USER AND END USE BASED

9. The authority citation for part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 19, 2019, 83 FR 49633 (September 20, 2019); Notice of November 12, 2019, 84 FR 61817 (November 13, 2019).

10. In § 744.1, revise the last two sentences of paragraph (a)(1) to read as follows:

§ 744.1 General provisions.

(a)(1) * * * Section 744.21 imposes restrictions for exports, reexports and transfers (in-country) of items on the CCL for a `military end use' or `military end user' in the People's Republic of China (PRC or China), Russia, or Venezuela. Section 744.22 imposes restrictions on exports, reexports and transfers to persons whose property and interests in property are blocked pursuant to Executive Orders 13310, 13448, or 13464.

* * * * *

11. Section 744.21 is revised to read as follows:

§ 744.21 Restrictions on certain `military end use' or `military end user' in the People's Republic of China, Russia, or Venezuela.

(a) General prohibition. In addition to the license requirements for items specified on the Commerce Control List (CCL), you may not export, reexport, or transfer (in-country) any item subject to the EAR listed in Supplement No. 2 to part 744 to the People's Republic of China (China), Russia, or Venezuela without a license if, at the time of the export, reexport, or transfer (in-country), you have “knowledge,” as defined in § 772.1 of the EAR, that the item is intended, entirely or in part, for a `military end use,' as defined in paragraph (f) of this section, or `military end user,' as defined in paragraph (g) of this section, in China, Russia, or Venezuela.

(b) Additional prohibition on those informed by BIS. BIS may inform you either individually by specific notice, through amendment to the EAR published in the Federal Register, or through a separate notice published in the Federal Register, that a license is required for specific exports, reexports, or transfers (in-country) of any item because there is an unacceptable risk of use in or diversion to a `military end use' or `military end user' in China, Russia, or Venezuela. Specific notice will be given only by, or at the direction of, the Deputy Assistant Secretary for Export Administration. When such notice is provided orally, it will be followed by written notice within two working days signed by the Deputy Assistant Secretary for Export Administration or the Deputy Assistant Secretary's designee. The absence of BIS notification does not excuse the exporter from compliance with the license requirements of paragraph (a) of this section.

(c) License exception. Despite the prohibitions described in paragraphs (a) and (b) of this section, you may export, reexport, or transfer (in-country) items subject to the EAR under the provisions of License Exception GOV set forth in § 740.11(b)(2)(i) and (ii) of the EAR.

(d) License application procedure. When submitting a license application pursuant to this section, you must state in the “additional information” block of the application that “this application is submitted because of the license requirement in § 744.21 of the EAR (Restrictions on a `Military End Use' or `Military End User' in the People's Republic of China, Russia, or Venezuela).” In addition, either in the additional information block of the application or in an attachment to the application, you must include all known information concerning the `military end use' and `military end user(s)' of the item(s). If you submit an attachment with your license application, you must reference the attachment in the “additional information” block of the application.

(e) License review standards. (1) Applications to export, reexport, or transfer (in-country) items described in paragraph (a) of this section will be reviewed with a presumption of denial.

(2) Applications may be reviewed under chemical and biological weapons, nuclear nonproliferation, or missile technology review policies, as set forth in §§ 742.2(b)(4), 742.3(b)(4), and 742.5(b)(4) of the EAR, if the end use may involve certain proliferation activities.

(3) Applications for items requiring a license for any reason that are destined to China, Russia, or Venezuela for a `military end use' or `military end user' also will be subject to the review policy stated in paragraph (e)(1) of this section.

(f) Military end use. In this section, `military end use' means: incorporation into a military item described on the U.S. Munitions List (USML) (22 CFR part 121, International Traffic in Arms Regulations); incorporation into items classified under ECCNs ending in “A018” or under “600 series” ECCNs; or any item that supports or contributes to the operation, installation, maintenance, repair, overhaul, refurbishing, “development,” or “production,” of military items described on the USML, or items classified under ECCNs ending in “A018” or under “600 series” ECCNs.

(g) Military end user. In this section, the term `military end user' means the national armed services (army, navy, marine, air force, or coast guard), as well as the national guard and national police, government intelligence or reconnaissance organizations, or any person or entity whose actions or functions are intended to support `military end uses' as defined in paragraph (f) of this section.

(h) Effects on contracts. Venezuela: Transactions involving the export, reexport, or transfer (in country) of items to or within Venezuela are not subject to the provisions of § 744.21 if the contracts for such transactions were signed prior to November 7, 2014.

12. Supplement No. 2 to part 744 is revised to read as follows:

Supplement No. 2 to Part 744—List of Items Subject to the Military End Use or End User License Requirement of § 744.21

The following items, as described, are subject to the military end use or end user license requirement in § 744.21.

(1) Category 1 Materials, Chemicals, Microorganisms, and Toxins

(i) 1A290 Depleted uranium (any uranium containing less than 0.711% of the isotope U 235) in shipments of more than 1,000 kilograms in the form of shielding contained in X ray units, radiographic exposure or teletherapy devices, radioactive thermoelectric generators, or packaging for the transportation of radioactive materials.

(ii) 1C990 Fibrous and filamentary materials, not controlled by 1C010 or 1C210, for use in “composite” structures and with a specific modulus of 3.18x10⁶m or greater and a specific tensile strength of 7.62x10⁴m or greater.

(iii) 1C996 Hydraulic fluids containing synthetic hydrocarbon oils, having all the characteristics in the List of Items Controlled.

(iv) 1D993 “Software” specially designed for the “development”, “production”, or “use” of equipment or materials controlled by 1C210.b, or 1C990.

(v) 1D999 Limited to specific software controlled by 1D999.b for equipment controlled by 1B999.e that is specially designed for the production of prepregs controlled in Category 1, n.e.s.

(vi) 1E994 Limited to “technology” for the “development”, “production”, or “use” of fibrous and filamentary materials other than glass, aramid or polyethylene controlled by 1C990.

(2) Category 2 Materials Processing

(i) 2A290 Generators and other equipment “specially designed,” prepared, or intended for use with nuclear plants.

(ii) 2A291 Equipment, except items controlled by 2A290, related to nuclear material handling and processing and to nuclear reactors, and “parts,” “components” and “accessories” therefor (see List of Items Controlled).

(iii) 2A991 Limited to bearings and bearing systems not controlled by 2A001 and with operating temperatures above 573 K (300 °C).

(iv) 2B991 Limited to “numerically controlled” machine tools having “positioning accuracies”, with all compensations available, less (better) than 9 μm along any linear axis; and machine tools controlled under 2B991.d.1.a.

(v) 2B992 Non “numerically controlled” machine tools for generating optical quality surfaces, and specially designed components therefor.

(vi) 2B996 Limited to dimensional inspection or measuring systems or equipment not controlled by 2B006 with measurement uncertainty equal to or less (better) than (1.7 + L/1000) micrometers in any axes (L measured Length in mm).

(vii) 2B999 Specific processing equipment, n.e.s. (see List of Items Controlled).

(viii) 2D290 “Software” “specially designed” or modified for the “development,” “production,” or “use” of items controlled by 2A290 or 2A291.

(3) Category 3 Electronics Design, Development and Production

(i) 3A991 Electronic devices, and “components” not controlled by 3A001.

(ii) 3A992 General purpose electronic equipment not controlled by 3A002.

(iii) 3A999 Specific processing equipment, n.e.s. (see List of Items Controlled).

(iv) 3B991 Equipment not controlled by 3B001 for the manufacture of electronic “parts,” “components” and materials, and “specially designed” “parts,” “components” and “accessories” therefor.

(v) 3B992 Equipment not controlled by 3B002 for the inspection or testing of electronic “components” and materials, and “specially designed” “parts,” “components” and “accessories” therefor.

(vi) 3C992 Positive resists designed for semiconductor lithography specially adjusted (optimized) for use at wavelengths between 370 and 245 nm.

(vii) 3D991 “Software” “specially designed” for the “development”, “production”, or “use” of electronic devices, “parts” or “components” controlled by 3A991, general purpose electronic equipment controlled by 3A992, or manufacturing and test equipment controlled by 3B991 and 3B992; or “software” “specially designed” for the “use” of equipment controlled by 3B001.g and .h.

(viii) 3E991 Limited to “technology” according to the General Technology Note for the “development”, “production”, or “use” of digital oscilloscopes and transient recorders with sampling rates greater than 2.5 giga samples per second, which are controlled by 3A992.g.

(4) Category 4 Computers

(i) 4A994 Limited to computers not controlled by 4A001 or 4A003, with an Adjusted Peak Performance (“APP”) exceeding 0.5 Weighted TeraFLOPS (WT).

(ii) 4D993 “Program” proof and validation “software”, “software” allowing the automatic generation of “source codes”, and operating system “software” that are specially designed for real time processing equipment.

(iii) 4D994 Limited to “software” specially designed or modified for the “development”, “production”, or “use” of equipment controlled by 4A101.

(5) Category 5 (Part 1) Telecommunications and Category 5 (Part 2) Information Security

(i) 5A991 Limited to telecommunications equipment designed to operate outside the temperature range from 219K (-54 °C) to 397K (124 °C), which is controlled by 5A991.a., radio equipment using Quadrature-amplitude-modulation (QAM) techniques, which is controlled by 5A991.b.7., and phased array antennae, operating above 10.5 Ghz, except landing systems meeting ICAO standards (MLS), which are controlled by 5A991.f.

(ii) 5B991 Telecommunications test equipment, n.e.s.

(iii) 5D991 Limited to “software” specially designed or modified for the “development”, “production”, or “use” of equipment controlled by 5A991.a., 5A991.b.7., and 5A991.f., or of “software” specially designed or modified for the “development”, “production”, or “use” of equipment controlled by 5A991.a., 5A991.b.7., and 5A991.f. (iv) 5E991 Limited to “technology” for the “development”, “production” or “use” of equipment controlled by 5A991.a., 5A991.b.7., or 5A991.f., or of “software” specially designed or modified for the “development”, “production”, or “use” of equipment controlled by 5A991.a., 5A991.b.7., and 5A991.f.

(v) 5A992 Equipment not controlled by 5A002 (see List of Items Controlled).

(vi) 5D992 “Information Security” “software” not controlled by 5D002 (see List of Items Controlled).

(6) Category 6 Sensors and Lasers

(i) 6A991 Marine or terrestrial acoustic equipment, n.e.s., capable of detecting or locating underwater objects or features or positioning surface vessels or underwater vehicles; and “specially designed” “parts” and “components,” n.e.s.

(ii) 6A993 Cameras, not controlled by 6A003 or 6A203 (see List of Items Controlled).

(iii) 6A995 “Lasers”, not controlled by 6A005 or 6A205.

(iv) 6A996 “Magnetometers” not controlled by ECCN 6A006, “Superconductive” electromagnetic sensors, and “specially designed” “components” therefor, as follows (see List of Items Controlled).

(v) 6C992 Optical sensing fibers not controlled by 6A002.d.3 which are modified structurally to have a “beat length” of less than 500 mm (high birefringence) or optical sensor materials not described in 6C002.b and having a zinc content of equal to or more than 6% by “mole fraction.”

(7) Category 7 Navigation and Avionics

(i) 7A994 Other navigation direction finding equipment, airborne communication equipment, all aircraft inertial navigation systems not controlled under 7A003 or 7A103, and other avionic equipment, including parts and components, n.e.s.

(ii) 7B994 Other equipment for the test, inspection, or “production” of navigation and avionics equipment.

(iii) 7D994 “Software”, n.e.s., for the “development”, “production”, or “use” of navigation, airborne communication and other avionics.

(iv) 7E994 “Technology”, n.e.s., for the “development”, “production”, or “use” of navigation, airborne communication, and other avionics equipment.

(8) Category 8 Marine

(i) 8A992 Vessels, marine systems or equipment, not controlled by 8A001 or 8A002, and “specially designed” “parts” and “components” therefor, and marine boilers and “parts,” “components,” “accessories,” and “attachments” therefor (see List of Items Controlled).

(ii) 8D992 “Software” specially designed or modified for the “development”, “production” or “use” of equipment controlled by 8A992.

(iii) 8E992 “Technology” for the “development”, “production” or “use” of equipment controlled by 8A992.

(9) Category 9 Propulsion Systems, Space Vehicles and Related Equipment

(i) 9A991 “Aircraft”, n.e.s., and gas turbine engines not controlled by 9A001 or 9A101 and “parts” and “components,” n.e.s. (see List of Items Controlled).

(ii) 9B990 Vibration test equipment and “specially designed” “parts” and “components,” n.e.s.

(iii) 9D991 “Software”, for the “development” or “production” of equipment controlled by 9A991 or 9B991.

(iv) 9E991 “Technology”, for the “development”, “production” or “use” of equipment controlled by 9A991 or 9B991.

PART 758—EXPORT CLEARANCE REQUIREMENTS

13. The authority citation for part 758 continues to read as follows:

Authority: 50 U.S.C. 4801-4852; 50 U.S.C. 4601 et seq.; 50 U.S.C. 1701 et seq.; E.O. 13222, 66 FR 44025, 3 CFR, 2001 Comp., p. 783.

14. In § 758.1, add paragraph (b)(10) and revise paragraph (g)(3) to read as follows:

§ 758.1 The Electronic Export Information (EEI) filing to the Automated Export System (AES).

* * * * *

(b) * * *

(10) For all exports of items on the Commerce Control List to the People's Republic of China, Russia, or Venezuela, regardless of value, unless the export may be made under the exemption listed under paragraph (c)(4) of this section.

* * * * *

(g) * * *

(3) No License Required (NLR) exports. You must report on any required EEI filing to the AES the correct license code/license exception code when using the “NLR” designation for the items that are subject to the EAR but not listed on the Commerce Control List (CCL) (i.e., items are designated as EAR99) (FTR license code “C33”), and when the items to be exported are listed on the CCL but are not subject to a license requirement. In addition, you must enter the correct ECCN on any required EEI filing for all items being exported under the NLR provisions that have a reason for control other than or in addition to anti-terrorism (AT), unless the items are destined to China, Russia, or Venezuela. For items destined to China, Russia, or Venezuela, you must enter the correct ECCN on any required EEI filing regardless of reason for control.

* * * * *

PART 774—THE COMMERCE CONTROL LIST

15. The authority citation for part 774 continues to read as follows:

Authority: 50 U.S.C. 4801-4852; 50 U.S.C. 4601 et seq.; 50 U.S.C. 1701 et seq.; 10 U.S.C. 8720; 10 U.S.C. 8730(e); 22 U.S.C. 287c, 22 U.S.C. 3201 et seq.; 22 U.S.C. 6004; 42 U.S.C. 2139a; 15 U.S.C. 1824; 50 U.S.C. 4305; 22 U.S.C. 7201 et seq.; 22 U.S.C. 7210; E.O. 13026, 61 FR 58767, 3 CFR, 1996 Comp., p. 228; E.O. 13222, 66 FR 44025, 3 CFR, 2001 Comp., p. 783.

Supplement No. 1 to Part 774—[Amended]

16. In Supplement No. 1 to Part 774 (the Commerce Control List), Category 0, remove the reference to “§ 742.6(a)(7)” in ECCNs 0A521, 0B521, 0C521, 0D521, and 0E521 and add in its place “§ 742.6(a)(8)”.

17. In Supplement No. 1 to Part 774 (the Commerce Control List), Category 0, the License Requirements sections of ECCNs 0A606, 0A617, 0D606, 0D617, 0E606, and 0E617 are revised to read as follows:

0A606 Ground vehicles and related commodities, as follows (see List of Items Controlled).XXXXXXXXX

License Requirements

Reason for Control: NS, RS, AT, UN

Control(s) | Country chart (see Supp. No. 1 to part 738)
NS applies to entire entry, except 0A606.b and .y | NS Column 1
NS applies to 0A606.b | NS Column 2
RS applies to entire entry, except 0A606.b and .y | RS Column 1
RS applies to 0A606.b | RS Column 2
RS applies to 0A606.y | China, Russia, or Venezuela (see § 742.6(a)(7))
AT applies to entire entry | AT Column 1
UN applies to entire entry, except 0A606.y | See § 746.1(b) for UN controls

* * * * *

0A617 Miscellaneous “equipment,” materials, and related commodities (see List of Items Controlled).

License Requirements

Reason for Control: NS, RS, AT, UN

Control(s) | Country chart (see Supp. No. 1 to part 738)
NS applies to entire entry, except 0A617.y | NS Column 1
RS applies to entire entry, except 0A617.y | RS Column 1
RS applies to 0A617.y | China, Russia, or Venezuela (see § 742.6(a)(7))
AT applies to entire entry | AT Column 1
UN applies to entire entry, except 0A617.y | See § 764.1(b) for UN controls

* * * * *

0D606 “Software” “specially designed” for the “development,” “production,” operation, or maintenance of ground vehicles and related commodities controlled by 0A606, 0B606, or 0C606 (see List of Items Controlled).

License Requirements

Reason for Control: NS, RS, AT, UN

Control(s) | Country chart (see Supp. No. 1 to part 738)
NS applies to entire entry, except 0D606.y | NS Column 1
RS applies to entire entry, except 0D606.y | RS Column 1
RS applies to 0D606.y | China, Russia, or Venezuela (see § 742.6(a)(7))
AT applies to entire entry | AT Column 1
UN applies to entire entry, except 0D606.y | See § 746.1(b) for UN controls

* * * * *

0D617 “Software” “specially designed” for the “development,” “production,” operation, or maintenance of commodities controlled by 0A617, “equipment” controlled by 0B617, or materials controlled by 0C617 (see List of Items Controlled).

License Requirements

Reason for Control: NS, RS, AT, UN

Control(s) | Country chart (see Supp. No. 1 to part 738)
NS applies to entire entry, except 0D617.y | NS Column 1
RS applies to entire entry, except 0D617.y | RS Column 1
RS applies to 0D617.y | China, Russia, or Venezuela (see § 742.6(a)(7))
AT applies to entire entry | AT Column 1
UN applies to entire entry, except 0D617.y | See § 746.1(b) for UN controls

* * * * *

0E606 “Technology” “required” for the “development,” “production,” operation, installation, maintenance, repair, overhaul, or refurbishing of ground vehicles and related commodities in 0A606, 0B606, 0C606, or software in 0D606 (see List of Items Controlled).

License Requirements

Reason for Control: NS, RS, AT, UN

Control(s) | Country chart (see Supp. No. 1 to part 738)
NS applies to entire entry, except 0E606.y | NS Column 1
RS applies to entire entry, except 0E606.y | RS Column 1
RS applies to 0E606.y | China, Russia, or Venezuela (see § 742.6(a)(7))
AT applies to entire entry | AT Column 1
UN applies to entire entry, except 0E606.y | See § 746.1(b) for UN controls

* * * * *

0E617 “Technology” “required” for the “development,” “production,” operation, installation, maintenance, repair, overhaul, or refurbishing of commodities controlled by ECCN 0A617, “equipment” controlled by 0B617, or materials controlled by 0C617, or “software” controlled by ECCN 0D617 (see List of Items Controlled).

License Requirements

Reason for Control: NS, RS, AT, UN

Control(s) | Country chart (see Supp. No. 1 to part 738)
NS applies to entire entry, except 0E617.y | NS Column 1
RS applies to entire entry, except 0E617.y | RS Column 1
RS applies to 0E617.y | China, Russia, or Venezuela (see § 742.6(a)(7))
AT applies to entire entry | AT Column 1
UN applies to entire entry, except 0E617.y | See § 746.1(b) for UN controls

* * * * *

18. In Supplement No. 1 to Part 774 (the Commerce Control List), Category 1, the License Requirements sections of ECCNs 1A613, 1D613, and 1E613 are revised to read as follows:

1A613 Armored and protective “equipment” and related commodities, as follows (see List of Items Controlled).

License Requirements

Reason for Control: NS, RS, AT, UN

Control(s) | Country chart (see Supp. No. 1 to part 738)
NS applies to entire entry except 1A613.y | NS Column 1
RS applies to entire entry except 1A613.y | RS Column 1
RS applies 1A613.y | China, Russia, or Venezuela (see § 742.6(a)(7))
AT applies to entire entry | AT Column 1
UN applies to entire entry, except 1A613.y | See § 746.1(b) for UN controls

* * * * *

1D613 “Software” “specially designed” for the “development,” “production,” operation, or maintenance of commodities controlled by 1A613 or 1B613, as follows (see List of Items Controlled).

License Requirements

Reason for Control: NS, RS, AT, UN

Control(s) | Country chart (see Supp. No. 1 to part 738)
NS applies to entire entry except 1D613.y | NS Column 1
RS applies to entire entry except 1D613.y | RS Column 1
RS applies to 1D613.y | China, Russia, or Venezuela (see § 742.6(a)(7))
AT applies to entire entry | AT Column 1
UN applies to entire entry, except 1D613.y | See § 746.1(b) for UN controls

* * * * *

1E613 “Technology” “required” for the “development,” “production,” operation, installation, maintenance, repair, overhaul, or refurbishing of commodities controlled by 1A613 or 1B613 or “software” controlled by 1D613, as follows (see List of Items Controlled).

License Requirements

Reason for Control: NS, RS, AT, UN

Control(s) | Country chart (see Supp. No. 1 to part 738)
NS applies to entire entry except 1E613.y | NS Column 1
RS applies to entire entry except 1E613.y | RS Column 1
RS applies to 1E613.y | China, Russia, or Venezuela (see § 742.6(a)(7))
AT applies to entire entry | AT Column 1
UN applies to entire entry, except 1E613.y | See § 746.1(b) for UN controls

* * * * *

19. In Supplement No. 1 to Part 774 (the Commerce Control List), Category 3, the License Requirements sections of ECCNs 3A611, 3D611, and 3E611 are revised to read as follows:

3A611 Military electronics, as follows (see List of Items Controlled).

Reason for Control: NS, RS, AT, UN

Control(s) | Country chart (see Supp. No. 1 to part 738)
NS applies to entire entry except 3A611.y | NS Column 1
RS applies to entire entry except 3A611.y | RS Column 1
RS applies to 3A611.y | China, Russia, or Venezuela (see § 742.6(a)(7))
AT applies to entire entry | AT Column 1
UN applies to entire entry except 3A611.y | See § 746.1(b) for UN controls

* * * * *

3D611 “Software” “specially designed” for military electronics, as follows (see List of Items Controlled).

License Requirements

Reason for Control: NS, RS, AT, UN

Control(s) | Country chart (see Supp. No. 1 to part 738)
NS applies to entire entry except 3D611.y | NS Column 1
RS applies to entire entry except 3D611.y | RS Column 1
RS applies to 3D611.y | China, Russia, or Venezuela (see § 742.6(a)(7))
AT applies to entire entry | AT Column 1
UN applies to entire entry except 3D611.y | See § 746.1(b) for UN controls

* * * * *

3E611 “Technology” “required” for military electronics, as follows (see List of Items Controlled).

License Requirements

Reason for Control: NS, RS, AT, UN

Control(s) | Country chart (see Supp. No. 1 to part 738)
NS applies to entire entry except 3E611.y | NS Column 1
RS applies to entire entry except 3E611.y | RS Column 1
RS applies to 3E611.y | China, Russia, or Venezuela (see § 742.6(a)(7))
AT applies to entire entry | AT Column 1
UN applies to entire entry except 3E611.y | See § 746.1(b) for UN controls

* * * * *

20. In Supplement No. 1 to Part 774 (the Commerce Control List), Category 7, the License Requirements sections of ECCNs 7A611, 7D611, and 7E611 are revised to read as follows:

7A611 Military fire control, laser, imaging, and guidance equipment, as follows (see List of Items Controlled).

License Requirements

Reason for Control: NS, MT, RS, AT, UN

Control(s) | Country chart (see Supp. No. 1 to part 738)
NS applies to entire entry except 7A611.y | NS Column 1
MT applies to commodities in 7A611.a that meet or exceed the parameters in 7A103.b or .c | MT Column 1
RS applies to entire entry except 7A611.y | RS Column 1
RS applies to 7A611.y | China, Russia, or Venezuela (see § 742.6(a)(7))
AT applies to entire entry | AT Column 1
UN applies to entire entry except 7A611.y | See § 746.1(b) for UN controls

* * * * *

7D611 “Software” “specially designed” for commodities controlled by 7A611 or equipment controlled by 7B611, as follows (see List of Items Controlled).

License Requirements

Reason for Control: NS, MT, RS, AT, UN

Control(s) | Country chart (see Supp. No. 1 to part 738)
NS applies to entire entry except 7D611.y | NS Column 1
MT applies to 7D611.a “software” “specially designed” for 7A611.a commodities controlled for MT reasons | MT Column 1
RS applies to entire entry except 7D611.y | RS Column 1
RS applies to 7D611.y | China, Russia, or Venezuela (see § 742.6(a)(7))
AT applies to entire entry | AT Column 1
UN applies to entire entry except 7D611.y | See § 746.1(b) for UN controls

* * * * *

7E611 “Technology” “required” for the “development,” “production,” operation, installation, maintenance, repair, overhaul or refurbishing of commodities controlled by 7A611, commodities controlled by 7B611, or software controlled by 7D611, as follows (see List of Items Controlled).

License Requirements

Reason for Control: NS, MT, RS, AT, UN

Control(s) | Country chart (see Supp. No. 1 to part 738)
NS applies to entire entry except 7E611.y | NS Column 1
MT applies to “technology” in 7E611.a if “required” for items controlled for MT reasons in 7A611.a, 7B611.a, or 7D611.a | MT Column 1
RS applies to entire entry except 7E611.y | RS Column 1
RS applies to 7E611.y | China, Russia, or Venezuela (see § 742.6(a)(7))
AT applies to entire entry | AT Column 1
UN applies to entire entry except 7E611.y | See § 746.1(b) for UN controls

* * * * *

21. In Supplement No. 1 to Part 774 (the Commerce Control List), Category 8, the License Requirements sections of ECCNs 8A609, 8A620, 8D609, 8D620, 8E609, and 8E620 are revised to read as follows:

8A609 Surface vessels of war and related commodities (see List of Items Controlled).

License Requirements

Reason for Control: NS, RS, AT, UN

Control(s) | Country chart (see Supp. No. 1 to part 738)
NS applies to entire entry, except 8A609.y | NS Column 1
RS applies to entire entry, except 8A609.y | RS Column 1
RS applies to 8A609.y | China, Russia, or Venezuela (see § 742.6(a)(7))
AT applies to entire entry | AT Column 1
UN applies to entire entry, except 8A609.y | See § 746.1(b) for UN controls

* * * * *

8A620 Submersible vessels, oceanographic and associated commodities (see List of Items Controlled).

License Requirements

Reason for Control: NS, RS, AT, UN

Control(s) | Country chart (see Supp. No. 1 to part 738)
NS applies to entire entry, except 8A620. b and .y | NS Column 1
RS applies to entire entry, except 8A620.y | RS Column 1
RS applies to 8A620.y | China, Russia, or Venezuela (see § 742.6(a)(7))
AT applies to entire entry | AT Column 1
UN applies to entire entry, except 8A620.y | See § 746.1(b) for UN controls

* * * * *

8D609 “Software” “specially designed” for the “development,” “production,” operation or maintenance of commodities controlled by 8A609, 8B609, or 8C609 (see List of Items Controlled).

License Requirements

Reason for Control: NS, RS, AT, UN

Control(s) | Country chart (see Supp. No. 1 to part 738)
NS applies to entire entry, except 8D609.y | NS Column 1
RS applies to entire entry, except 8D609.y | RS Column 1
RS applies to 8D609.y | China, Russia, or Venezuela (see § 742.6(a)(7))
AT applies to entire entry | AT Column 1
UN applies to entire entry, except 8D609.y | See § 746.1(b) for UN controls

* * * * *

8D620 “Software” “specially designed” for the “development,” “production,” operation, or maintenance of commodities controlled by 8A620 or 8B620 (see List of Items Controlled).

License Requirements

Reason for Control: NS, RS, AT, UN

Control(s) | Country chart (see Supp. No. 1 to part 738)
NS applies to entire entry, except 8D620.b and .y | NS Column 1
RS applies to entire entry, except 8D620.y | RS Column 1
RS applies to 8D620.y | China, Russia, or Venezuela (see § 742.6(a)(7))
AT applies to entire entry | AT Column 1
UN applies to entire entry, except 8D620.y | See § 746.1(b) for UN controls

* * * * *

8E609 “Technology” “required” for the “development,” “production,” operation, installation, maintenance, repair, overhaul, or refurbishing of commodities controlled by 8A609, 8B609, or 8C609, or “software” controlled by 8D609 (see List of Items Controlled).

License Requirements

Reason for Control: NS, RS, AT, UN

Control(s) | Country chart (see Supp. No. 1 to part 738)
NS applies to entire entry, except 8E609.y | NS Column 1
RS applies to entire entry, except 8E609.y | RS Column 1
RS applies to 8E609.y | China, Russia, or Venezuela (see § 742.6(a)(7))
AT applies to entire entry | AT Column 1
UN applies to entire entry, except 8E609.y | See § 746.1(b) for UN controls

* * * * *

8E620 “Technology” “required” for the “development,” “production,” operation, installation, maintenance, repair, overhaul, or refurbishing of commodities controlled by 8A620 or 8B620, or “software” controlled by 8D620 (see List of Items Controlled).

License Requirements

Reason for Control: NS, RS, AT, UN

Control(s) | Country chart (see Supp. No. 1 to part 738)
NS applies to entire entry, except 8E620.b and .y | NS Column 1
RS applies to entire entry, except 8E620.y | RS Column 1
RS applies to 8E620.y | China, Russia, or Venezuela (see § 742.6(a)(7))
AT applies to entire entry | AT Column 1
UN applies to entire entry, except 8E620.y | See § 746.1(b) for UN controls

* * * * *

22. In Supplement No. 1 to Part 774 (the Commerce Control List), Category 9, remove the reference to “§ 742.6(a)(8)” in the License Requirement Notes in ECCNs 9A515 and 9E515 and add in its place “§ 742.6(a)(9)”.

23. In Supplement No. 1 to Part 774 (the Commerce Control List), Category 9, the License Requirements sections of ECCNs 9A515, 9D515, 9E515, 9A610, 9A619, 9B619, 9D610, 9D619, 9E610, and 9E619 are revised to read as follows:

9A515 “Spacecraft” and related commodities, as follows (see List of Items Controlled).

License Requirements

Reason for Control: NS, RS, MT, AT

Control(s) | Country chart (see Supp. No. 1 to part 738)
NS applies to entire entry, except .e and .y | NS Column 1
RS applies to entire entry, except .e and .y | RS Column 1
RS applies to 9A515.e | RS Column 2
RS applies to 9A515.y, except to Russia for use in, with, or for the International Space Station (ISS), including launch to the ISS | China, Russia, or Venezuela (see § 742.6(a)(7))
MT applies to microcircuits in 9A515.d and 9A515.e.2 when “usable in” “missiles” for protecting “missiles” against nuclear effects (e.g., Electromagnetic Pulse (EMP), X-rays, combined blast and thermal effects). MT also applies to 9A515.h when the total impulse capacity is equal to or greater than 8.41x10∧5 newton seconds | MT Column 1
AT applies to entire entry | AT Column 1

* * * * *

* * * * *

9D515 “Software” “specially designed” for the “development,” “production,” operation, installation, maintenance, repair, overhaul, or refurbishing of “spacecraft” and related commodities, as follows (see List of Items Controlled).

License Requirements

Reason for Control: NS, RS, AT

Control(s) | Country chart (see Supp. No. 1 to part 738)
NS applies to entire entry except 9D515.y. | NS Column 1
RS applies to entire entry except 9D515.y. | RS Column 1
RS applies to 9D515.y, except to Russia for use in, with, or for the International Space Station (ISS), including launch to the ISS | China, Russia, or Venezuela (see § 742.6(a)(7))
AT applies to entire entry | AT Column 1

* * * * *

9E515 “Technology” “required” for the “development,” “production,” operation, installation, repair, overhaul, or refurbishing of “spacecraft” and related commodities, as follows (see List of Items Controlled).

License Requirements

Reason for Control: NS, MT, RS, AT

Control(s) | Country chart (see Supp. No. 1 to part 738)
NS applies to entire entry except 9E515.y | NS Column 1
MT applies to technology for items in 9A515.d, 9A515.e.2, and 9B515.a controlled for MT reasons | MT Column 1
RS applies to entire entry except 9E515.y | RS Column 1
RS applies to 9E515.y, except to Russia for use in, with, or for the International Space Station (ISS), including launch to the ISS | China, Russia, or Venezuela (see § 742.6(a)(7))
AT applies to entire entry | AT Column 1

* * * * *

9A610 Military aircraft and related commodities, other than those enumerated in 9A991.a (see List of Items Controlled).

License Requirements

Reason for Control: NS, RS, MT, AT, UN

Control(s) | Country chart (see Supp. No. 1 to part 738)
NS applies to entire entry except: 9A610.b; parts and components controlled in 9A610.x if being exported or reexported for use in an aircraft controlled in 9A610.b; and 9A610.y | NS Column 1
RS applies to entire entry except: 9A610.b; parts and components controlled in 9A610.x if being exported or reexported for use in an aircraft controlled in 9A610.b; and 9A610.y | RS Column 1
RS applies to 9A610.y | China, Russia, or Venezuela (see § 742.6(a)(7))
MT applies to 9A610.t, .u, .v, and .w | MT Column 1
AT applies to entire entry | AT Column 1
UN applies to entire entry except 9A610.y | See § 746.1(b) for UN controls

* * * * *

9A619 Military gas turbine engines and related commodities (see List of Items Controlled).

License Requirements

Reason for Control: NS, RS, AT, UN

Control(s) | Country chart (see Supp. No. 1 to part 738)
NS applies to entire entry except 9A619.y | NS Column 1
RS applies to entire entry except 9A619.y | RS Column 1
RS applies to 9A619.y | China, Russia, or Venezuela (see § 742.6(a)(7))
AT applies to entire entry | AT Column 1
UN applies to entire entry except 9A619.y | See § 746.1(b) for UN controls

* * * * *

9B619 Test, inspection, and production “equipment” and related commodities “specially designed” for the “development” or “production” of commodities enumerated or otherwise described in ECCN 9A619 or USML Category XIX (see List of Items Controlled).

License Requirements

Reason for Control: NS, RS, AT, UN

Control(s) | Country chart (see Supp. No. 1 to part 738)
NS applies to entire entry except 9B619.y | NS Column 1
RS applies to entire entry except 9B619.y | RS Column 1
RS applies to 9B619.y | China, Russia, or Venezuela (see § 742.6(a)(7))
AT applies to entire entry | AT Column 1
UN applies to entire entry except 9B619.y | See § 746.1(b) for UN controls

* * * * *

9D610 Software “specially designed” for the “development,” “production,” operation, or maintenance of military aircraft and related commodities controlled by 9A610, equipment controlled by 9B610, or materials controlled by 9C610 (see List of Items Controlled).

License Requirements

Reason for Control: NS, RS, MT, AT, UN

Control(s) | Country chart (see Supp. No. 1 to part 738)
NS applies to entire entry except 9D610.y | NS Column 1
MT applies to software “specially designed” for the operation, installation, maintenance, repair, overhaul, or refurbishing of commodities controlled for MT reasons in 9A610 or 9B610 | MT Column 1
RS applies to entire entry except 9D610.y | RS Column 1
RS applies to 9D610.y | China, Russia, or Venezuela (see § 742.6(a)(7))
AT applies to entire entry | AT Column 1
UN applies to entire entry except 9D610.y | See § 746.1(b) for UN controls

* * * * *

9D619 Software “specially designed” for the “development,” “production,” operation or maintenance of military gas turbine engines and related commodities controlled by 9A619, equipment controlled by 9B619, or materials controlled by 9C619 (see List of Items Controlled).

License Requirements

Reason for Control: NS, RS, AT, UN

Control(s) | Country chart (see Supp. No. 1 to part 738)
NS applies to entire entry except 9D619.y | NS Column 1
RS applies to entire entry except 9D619.y | RS Column 1
RS applies to 9D619.y | China, Russia, or Venezuela (see § 742.6(a)(7))
AT applies to entire entry | AT Column 1
UN applies to entire entry except 9D619.y | See § 746.1(b) for UN controls

* * * * *

9E610 Technology “required” for the “development,” “production,” operation, installation, maintenance, repair, overhaul, or refurbishing of military aircraft and related commodities controlled by 9A610, equipment controlled by 9B610, materials controlled by 9C610, or software controlled by 9D610 (see List of Items Controlled).

License Requirements

Reason for Control: NS, RS, MT, AT, UN

Control(s) | Country chart (see Supp. No. 1 to part 738)
NS applies to entire entry except 9E610.y | NS Column 1
RS applies to entire entry except 9E610.y | RS Column 1
RS applies to 9E610.y | China, Russia, or Venezuela (see § 742.6(a)(7))
MT applies to “technology” “required” for the “development,” “production,” operation, installation, maintenance, repair, overhaul, or refurbishing of commodities or software controlled for MT reasons in 9A610, 9B610, or 9D610 for MT reasons | MT Column 1
AT applies to entire entry | AT Column 1
UN applies to entire entry except 9E610.y | See § 746.1(b) for UN controls

* * * * *

9E619 “Technology” “required” for the “development,” “production,” operation, installation, maintenance, repair, overhaul, or refurbishing of military gas turbine engines and related commodities controlled by 9A619, equipment controlled by 9B619, materials controlled by 9C619, or software controlled by 9D619 (see List of Items Controlled).

License Requirements

Reason for Control: NS, RS, AT, UN

Control(s) | Country chart (see Supp. No. 1 to part 738)
NS applies to entire entry except 9E619.y | NS Column 1
RS applies to entire entry except 9E619.y | RS Column 1
RS applies to 9E619.y | China, Russia, or Venezuela (see § 742.6(a)(7))
AT applies to entire entry | AT Column 1
UN applies to entire entry except 9E619.y | See § 746.1(b) for UN controls

Matthew S. Borman,
Deputy Assistant Secretary for Export Administration.

[FR Doc. 2020-07241 Filed 4-27-20; 8:45 am]

BILLING CODE 3510-33-P